DEPARTMENT OF ENERGY

Federal Energy Regulatory Commission

PPL Holtwood, LLC (PPL); Notice of Settlement Agreement and Soliciting Comments

July 8, 2004.

Take notice that the following Offer of Settlement has been filed with the Commission and is available for public inspection.

a. Type of Application: Offer of settlement.

b. Project No.:487-034.

c. Date Filed: June 30, 2004.

d. Applicant: PPL Holtwood, LLC (PPL) .

e. Name of Project: Lake Wallenpaupack Hydroelectric Project.

f. Location: On Wallenpaupack Creek, in Wayne and Pike Counties, Pennsylvania.

g. Filed Pursuant to:Rule 602 of the Commission's Rules of Practice and Procedure, 18 CFR 385.602.

h. Applicant Contact: Gary Petrewski, PPL Generation, LLC, Two North Ninth Street (GENPL6), Allentown, PA 18101, 610-774-5996.

i. FERC Contact: Patrick K. Murphy (202) 502-8755 or patrick.murphy@ferc.gov.

j. Deadline for filing comments: The deadline for filing comments on the Offer of Settlement is 20 days from the date of this notice. The deadline for filing reply comments is 30 days from the date of this notice. All documents (original and eight copies) should be filed with: Magalie R. Salas, Secretary, Federal Energy Regulatory Commission, 888 First Street, NE., Washington, DC 20426. The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. See 18 CFR 395.2001(a)(1)(iii) and the instructions of the Commission's Web site (http://www.ferc.gov) under the “e-filing” link.

k. Description of Filing: PPL filed the Offer of Settlement on behalf of itself and the United States Department of the Interior: United States Fish and Wildlife Service and National Park Service, Pennsylvania Fish and Boat Commission, Lake Wallenpaupack Watershed Management District, Hawley Borough, Palmyra Township, Pike County; Lake Wallenpaupack Recreation Council; Pike-Wayne Trout Unlimited; Southern Wayne Regional Chamber of Commerce; Indian Rocks P.O.A. Inc., Pike-Wayne Association of Realtors, Wallenpaupack Area School District; Wallenpaupack Lake Estates; Cove Point Club, Inc.; Wallenpaupack Marine Trades Association; Threshman River Rides & Watercraft Access Facility; Richard Wollaver, Briar Hill Association; Ironwood Point Recreation Area; and Ledgedale Recreation Area. PPL requests that the Commission approve the Settlement.

l. A copy of the Settlement is available for review at the Commission in the Public Reference Room or may be viewed on the Commission's Web site at http://www.ferc.gov, using the “e-Library” link. Enter the docket number, excluding the last three digits in the docket number field to access the documents. For assistance, contact FERC Online Support at FERCOnlineSupport@ferc.gov or toll-free at 1-866-208-3676, or for TTY, (202) 502-8659. A copy is also available for inspection and reproduction at the address in item j above.

You may also register online at http://www.ferc.gov/docs-filing/esubscription.asp to be notified via e-mail of new filings and issuances related to this or other pending projects. For assistance, contact FERC Online Support.

Magalie R. Salas,
Secretary.

[FR Doc. E4-1531 Filed 7-13-04; 8:45 am]

BILLING CODE 6717-01-P